DEPARTMENT OF THE INTERIOR

Bureau of Land Management

[NM-910-02-1020-PG]

Notice of Public Meeting, New Mexico Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) New Mexico Resource Advisory Council (RAC), will meet as indicated below.

DATES: The meeting will be held on August 8-9, 2002, at the Farmington Field Office, 1235 La Plata Highway, Farmington, NM, beginning at 8 a.m. both days. An optional Field Trip is planned for Wednesday, August 7. The meeting will adjourn at approximately 5 p.m. both days. The three established RAC subcommittees may have a late afternoon or an evening meeting on Thursday, August 8. The public comment period will begin at 10 a.m. on Friday, August 9, and end at 12 noon.

SUPPLEMENTARY INFORMATION: The 15 member Council advises the Secretary of the Interior, through the Bureau of Land Management, on a variety of planning and management issues associated with public land management in New Mexico. At this meeting, topics we plan to discuss include:

Range restoration and the oil and gas industry

Feedback from the Rancher Subgroup from the May 2002 Farmington Oil and Gas Meeting

Update on Otero Mesa Mediation Assessment

Reflection/Learning from Otero Mesa

Renewable Energy

Collaborative land use planning and other topics.

All meetings are open to the public. The public may present written comments to the Council. Each formal Council meeting will also have time allocated for hearing public comments. Depending on the number of persons wishing to comment and time available, the time for individual oral comments may be limited. New Mexico RAC meetings are coordinated with the representative of the Governor of the State of New Mexico, the Office of the Lieutenant Governor.

FOR FURTHER INFORMATION CONTACT: Theresa Herrera, New Mexico State Office, Office of External Affairs, Bureau of Land Management, 1474 Rodeo Road, P.O. Box 27115, Santa Fe, New Mexico 87502-0115, (505) 438-7517.

Dated: June 25, 2002.
Richard A. Whitley,
Acting State Director.

[FR Doc. 02-17785 Filed 7-15-02; 8:45 am]

BILLING CODE 4310-FB-M